DEPARTMENT OF HOUSING AND URBAN DEVELOPMENT

[Docket No. FR-5383-N-24]

Notice of Proposed Information Collection for Public Comment; FY 2010 Capital Fund Community and Education Training Facilities NOFA

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: December 28, 2010.

ADDRESSES: Interested persons are invited to submit comments regarding this proposal. Comments should refer to the proposal by name/or OMB Control number and should be sent to: Colette Pollard, Departmental Reports Management Officer, QDAM, Department of Housing and Urban Development, 451 7th Street, SW., Room 4160, Washington, DC 20410-5000; telephone 202.402.3400, (this is not a toll-free number) or e-mail Ms. Pollard at Colette_Pollard@hud.gov. Persons with hearing or speech impairments may access this number through TTY by calling the toll-free Federal Information Relay Service at (800) 877-8339. (Other than the HUD USER information line and TTY numbers, telephone numbers are not toll-free.)

FOR FURTHER INFORMATION CONTACT: Arlette Mussington, Office of Policy, Programs and Legislative Initiatives, PIH, Department of Housing and Urban Development, 451 7th Street, SW., (L'Enfant Plaza, Room 206), Washington, DC 20410; telephone 202-402-4109, (this is not a toll-free number). Additional information is provided at http://www.hud.gov/offices/pih/programs/ph/cn/docs/2010-pre-notice.pdf.

SUPPLEMENTARY INFORMATION: The Department will submit the proposed information collection to OMB for review, as required by the Paperwork Reduction Act of 1995 (44 U.S.C. chapter 35, as amended). This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology, e.g., permitting electronic submission of responses.

This Notice also lists the following information:

Title of Proposal: FY 2010 Capital Fund Community and Education Training Facilities NOFA.

OMB Control Number: 2577-0268.

Description of the need for the information and proposed use: The Department of Housing and Urban Development Appropriations Act, 2010 (Pub. L. 111-117, enacted on December 16, 2009) permits the HUD Secretary to use up to $40,000,000 of the Capital Fund appropriations for grant funding to develop facilities to provide early childhood education, adult education, and/or job training programs for public housing residents based on an identified need. PHAs may use funds for construction of new facilities, rehabilitation of existing facilities, or rehabilitation of vacant space. These facilities will offer comprehensive, integrated supportive services to help public housing residents achieve better educational and economic outcomes resulting in long-term economic self-sufficiency. The actual Notice of Funding Availability (NOFA) will contain the selection criteria for awarding Capital Fund Education and Training Community Facilities grants and specific requirements that will apply to selected grantees.

Agency form number, if applicable: HUD-2990 and HUD-50075.1.

Members of affected public: Local governments, public housing authorities, nonprofits, and for-project developers that apply jointly with a public entity.

Estimation of the total number of hours needed to prepare the information collection including number of respondents: The estimated number of respondents is 300 annually with one response per respondent. The average number for each response is 47.75 hours, for a total reporting burden of 14,325 hours.

Status of the proposed information collection: Extension of approved collection.

Authority: Section 3506 of the Paperwork Reduction Act of 1995, 44 U.S.C. chapter 35, as amended.

Dated: October 21, 2010.
Merrie Nichols-Dixon,
Acting Deputy Assistant Secretary Office of Policy, Programs, and Legislative Initiatives.

[FR Doc. 2010-27445 Filed 10-28-10; 8:45 am]

BILLING CODE 4210-67-P